CHEMICAL SAFETY AND HAZARD INVESTIGATION BOARD

Sunshine Act Meeting

In connection with its investigation into the April 20, 2010, explosion and fire that occurred on the BP/Transocean Deepwater Horizon oil rig, the United States Chemical Safety and Hazard Investigation Board (CSB) announces that it will be holding an all day symposium entitled “International Models of Offshore Oil Rig Regulation” on Wednesday, December 15, 2010 in Washington, DC. The meeting will bring together international regulators, union representatives and industry groups' to discuss regulation of offshore drilling operations in the wake of the Deepwater Horizon accident.

The meeting will be held from 9 a.m.-5 p.m. at the Embassy Suites Ballroom located at 1250 22nd Street Northwest in Washington, DC. The meeting is free and open to the public.

The CSB's Board Members and BP Deepwater Horizon investigation team will hear testimony from leading safety experts involved in offshore drilling activities from countries including the United Kingdom, Australia and Norway. CSB Board Members and panel participants will be available to answer questions during a public comment period. The meeting will be available via webcast. All proceedings will be videotaped and an official transcript will be published.

The CSB is an independent Federal agency charged with investigating industrial chemical accidents. The agency's board members are appointed by the president and confirmed by the Senate. CSB investigations look into all aspects of chemical accidents, including physical causes such as equipment failure as well as inadequacies in regulations, industry standards, and safety management systems.

Christopher W. Warner,
General Counsel.

[FR Doc. 2010-30672 Filed 12-2-10; 4:15 pm]

BILLING CODE 6350-01-P